DEPARTMENT OF COMMERCE

National Oceanic and Atmospheric Administration

[I.D. 060804E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Analytical Team (TIQ Analytical Team) will hold a working meeting which is open to the public.

DATES: The TIQ Analytical Team working meeting will begin Thursday, July 1, 2004 at 9:30 a.m. and may go into the evening until business for the day is completed. The meeting will reconvene from 8 a.m. and continue until business for the day is complete on Friday, July 2, 2004.

ADDRESSES: The meeting will be held at: The Embassy Suites Hotel, 7900 NE. 82nd Avenue, Portland, OR 97220; telephone: (503) 460-3000

Council address: Pacific Fishery Management Council, 7700 NE. Ambassador Place, Suite 200, Portland, OR 97220-1384.

FOR FURTHER INFORMATION CONTACT: Mr. Jim Seger, Staff Officer (Economist); telephone: (503) 820-2280.

SUPPLEMENTARY INFORMATION: The purpose of the TIQ Analytical Team meeting is to plan a preliminary analysis for a generalized individual fishing quota (IFQ) program for the groundfish trawl fishery and identify specific tasks to be carried out. Related data collection issues will also be discussed.

Although non-emergency issues not contained in the TIQ Analytical Team meeting agenda may come before the group for discussion, those issues may not be the subject of formal committee action during these meetings. TIQ Analytical Team action will be restricted to those issues specifically listed in this notice and to any issues arising after publication of this notice requiring emergency action under Section 305(c) of the Magnuson-Stevens Fishery Conservation and Management Act, provided the public has been notified of the group's intent to take final action to address the emergency.

Special Accommodations

The meeting is physically accessible to people with disabilities. Requests for sign language interpretation or other auxiliary aids should be directed to Ms. Carolyn Porter at (503) 820-2280 at least 5 days prior to the meeting date.

Dated: June 8, 2004.
Alan D. Risenhoover,
Acting Director, Office of Sustainable Fisheries, National Marine Fisheries Service.

[FR Doc. E4-1341 Filed 6-14-04; 8:45 am]

BILLING CODE 3510-22-S